DEPARTMENT OF COMMERCE

National Oceanic and Atmospheric Administration

50 CFR Part 622

[Docket No. 100217095-2081-04]

RIN 0648-XE217

Fisheries of the Caribbean, Gulf of Mexico, and South Atlantic; Reef Fish Fishery of the Gulf of Mexico; 2015 Recreational Accountability Measure and Closure for Red Grouper

AGENCY: National Marine Fisheries Service (NMFS), National Oceanic and Atmospheric Administration (NOAA), Commerce.

ACTION: Temporary rule; accountability measures.

SUMMARY: NMFS implements accountability measures (AMs) for the red grouper recreational sector in the exclusive economic zone (EEZ) of the Gulf of Mexico (Gulf) for the 2015 fishing year through this temporary rule. NMFS projects the recreational sector will reach the recreational annual catch limit (ACL) by October 7, 2015. Therefore, the red grouper recreational sector in the Gulf EEZ will close at 12:01 a.m., local time, October 8, 2015. This closure is necessary to protect the Gulf red grouper resource.

DATES: The recreational sector closure for red grouper in the Gulf EEZ is effective at 12:01 a.m., local time, October 8, 2015, until January 1, 2016.

FOR FURTHER INFORMATION CONTACT: Rich Malinowski, NMFS Southeast Regional Office, telephone: 727-824-5305, email: rich.malinowski@noaa.gov.

SUPPLEMENTARY INFORMATION: The reef fish fishery of the Gulf, which includes red grouper, is managed under the Fishery Management Plan for the Reef Fish Resources of the Gulf of Mexico (FMP). The FMP was prepared by the Gulf of Mexico Fishery Management Council and is implemented by NMFS through regulations at 50 CFR part 622 under the authority of the Magnuson-Stevens Fishery Conservation and Management Act (Magnuson-Stevens Act). All weights specified in this rule are in gutted weight.

In accordance with regulations at 50 CFR 622.41(e)(2)(i), if red grouper recreational landings reach or are projected to reach the recreational ACL and without regard to overfished status, NMFS will close the red grouper recreational sector in the Gulf EEZ for the remainder of the fishing year by filing a notification to that effect with the Office of the Federal Register. The Gulf red grouper recreational ACL is 1.90 million lb (0.862 million kg), as specified in 50 CFR 622.41(e)(2)(iv). Gulf red grouper are not overfished based on the most recent Status of U.S. Fisheries Report to Congress. Based on 2015 recreational landings data thus far, NMFS projects the recreational sector will reach the red grouper recreational ACL by October 7, 2015. Therefore, NMFS closes the red grouper recreational sector in the Gulf EEZ at 12:01 a.m., local time, October 8, 2015, through December 31, 2015.

During the recreational sector closure, the bag and possession limits for red grouper in or from the Gulf EEZ are zero. These bag and possession limits also apply in the Gulf on board a vessel for which a valid Federal charter vessel/headboat permit for Gulf reef fish has been issued, without regard to where such species were harvested, i.e., in state or Federal waters.

The recreational sector for red grouper will reopen on January 1, 2016, the beginning of the 2016 recreational fishing season.

Classification

The Regional Administrator, Southeast Region, NMFS, has determined this temporary rule is necessary for the conservation and management of Gulf red grouper and is consistent with the Magnuson-Stevens Act and other applicable laws.

This action is taken under 50 CFR 622.41(e)(2)(i) and is exempt from review under Executive Order 12866.

These measures are exempt from the procedures of the Regulatory Flexibility Act because the temporary rule is issued without opportunity for prior notice and comment.

This action responds to the best scientific information available. The Assistant Administrator for Fisheries, NOAA (AA), finds that the need to immediately implement this action to close the red grouper recreational sector constitutes good cause to waive the requirements to provide prior notice and opportunity for public comment on this temporary rule pursuant to the authority set forth in 5 U.S.C. 553(b)(B), because such procedures are unnecessary and contrary to the public interest. Such procedures are unnecessary because the rule establishing the closure provisions was subject to notice and comment, and all that remains is to notify the public of the closure. Such procedures are contrary to the public interest because of the need to immediately implement this action to protect red grouper. Prior notice and opportunity for public comment would require time and could potentially allow the recreational sector to exceed the recreational ACL.

For the aforementioned reasons, the AA also finds good cause to waive the 30-day delay in the effectiveness of this action under 5 U.S.C. 553(d)(3).

Authority: 16 U.S.C. 1801 et seq.

Dated: September 29, 2015.
Emily H. Menashes,
Acting Director, Office of Sustainable Fisheries, National Marine Fisheries Service.

[FR Doc. 2015-25129 Filed 9-29-15; 4:15 pm]

BILLING CODE 3510-22-P